DEPARTMENT OF ENERGY

Federal Energy Regulatory Commission

[Project No. 15229-000]

Alabama Power Company; Notice of Preliminary Permit Application Accepted for Filing and Soliciting Comments, Motions To Intervene, and Competing Applications

On July 27, 2021, Alabama Power Company filed an application for a preliminary permit, pursuant to section 4(f) of the Federal Power Act, proposing to study the feasibility of the Chandler Mountain Pumped Storage Project No. 15229-000 (Chandler Mountain Project, or project), a closed-loop pumped storage project to be located in Etowah and St. Clair Counties, Alabama. The sole purpose of a preliminary permit, if issued, is to grant the permit holder priority to file a license application during the permit term. A preliminary permit does not authorize the permit holder to perform any land-disturbing activities or otherwise enter upon lands or waters owned by others without the owners' express permission.

The proposed pumped storage project would consist of the following: (1) An upper reservoir with a maximum water surface elevation of 1,364 feet mean sea level (msl); (2) four dam sections and one spillway section at a crest elevation of 895 feet, each; (3) an upper reservoir intake structure; (4) an underground powerhouse containing reversible pump-turbine unit(s) for a maximum installed capacity of 1,600 megawatts; (5) a lower reservoir discharge structure; (6) a lower reservoir with a maximum water surface elevation of 889 feet msl; (7) a transmission line(s) and switchyard(s) connecting the project to the grid; and (8) appurtenant facilities.

Applicant Contact: Ted McCullough, 600 North 18th Street, 16N-8180, Birmingham, Alabama 35291; phone: (205) 257-6227.

FERC Contact: Navreet Deo; phone: (202) 502-6304; email: navreet.deo@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15229-000.

More information about this project, including a copy of the application, can be viewed or printed on the “eLibrary” link of Commission's website at http://www.ferc.gov/docs-filing/elibrary.asp. Enter the docket number (P-15229) in the docket number field to access the document. For assistance, contact FERC Online Support.

Dated: August 13, 2021.
Kimberly D. Bose,
Secretary.

[FR Doc. 2021-17785 Filed 8-18-21; 8:45 am]

BILLING CODE 6717-01-P